DEPARTMENT OF AGRICULTURE

Natural Resources Conservation Service

Notice of Proposed Changes to the National Handbook of Conservation Practices for the Natural Resources Conservation Service

AGENCY: Natural Resources Conservation Service (NRCS), Department of Agriculture.

ACTION: Notice of availability of proposed changes in the NRCS National Handbook of Conservation Practices for public review and comment.

SUMMARY: Notice is hereby given of the intention of NRCS to issue a series of revised conservation practice standards in the National Handbook of Conservation Practices. These standards include: Aquaculture Ponds (Code 397), Contour Orchard and Other Perennial Crops (Code 331), Forage and Biomass Planting (Code 512), Forest Trails and Landings (Code 655), Heavy Use Area Protection (Code 561), Herbaceous Wind Barriers (Code 603), Integrated Pest Management (Code 595), Obstruction Removal (Code 500), Pumping Plant (Code 533), Sediment Basin (Code 350), Spoil Spreading (Code 572), Trail and Walkways (Code 568), and Vegetative Barrier (Code 601). Notice is also hereby given of the rescission of Prescribed Forestry (Code 409), effective October 1, 2009. NRCS State Conservationists who choose to adopt these practices for use within their States will incorporate them into section IV of their respective electronic Field Office Technical Guides. These practices may be used in conservation systems that treat highly erodible land (HEL) or on land determined to be a wetland. Section 343 of the Federal Agriculture Improvement and Reform Act of 1996, requires NRCS to make available for public review and comment, all proposed revisions to conservation practice standards used to carry out HEL and wetland provisions of the law.

DATES: Effective Date: This is effective August 28, 2009.

Comment date: Submit comments on or before September 28, 2009. Final versions of these new or revised conservation practice standards will be adopted after the close of the 30-day period, and after consideration of all comments.

ADDRESSES: Comments should be submitted using any of the following methods:

• Mail: Wayne Bogovich, National Agricultural Engineer, Conservation Engineering Division, Department of Agriculture, Natural Resources Conservation Service, 1400 Independence Avenue, SW., Room 6136 South Building, Washington, DC 20250.

• E-mail: wayne.bogovich@wdc.usda.gov.

FOR FURTHER INFORMATION CONTACT: Wayne Bogovich, National Agricultural Engineer, Conservation Engineering Division, Department of Agriculture, Natural Resources Conservation Service, 1400 Independence Avenue, SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue, SW., Room 6136 South Building, Washington, DC 20250.

SUPPLEMENTARY INFORMATION: The amount of the proposed changes varies considerably for each of the Conservation Practice Standards addressed in this notice. To fully understand the proposed changes, individuals are encouraged to compare these changes with each standard's current version as shown at: http://www.nrcs.usda.gov/technical/Standards/nhcp.html. To aid in this comparison, following are highlights of the proposed revisions to each standard:

Aquaculture Ponds (Code 397)—The revised CPS 397 has expanded Definition and Purpose sections. The Considerations and Specifications sections are more focused in their scope.

Contour Orchard and Other Perennial Crops (Code 331)—The revision includes several significant changes. This revision changes the practice name from “Contour Orchard and Other Fruit Areas” to “Contour Orchard and Other Perennial Crops,” and adds reduction in transport of sediment and other associated contaminant as a purpose. Also, this revision removes several statements in the criteria that are not applicable to this conservation practice, adds requirements in “Plans and Specifications,” includes the addition of vegetative ground cover and associated benefits as a consideration, and adds references.

Forage and Biomass Planting (Code 512)—The name was changed from Pasture and Hay Planting to Forage and Biomass Planting in recognition of similarities among plant species use for this purpose. Production of feedstock for biofuel production was added as a purpose. The practice remains applicable to all lands where appropriate, but does not include establishment of annually panted food, fiber, or oilseed crops. Additional Consideration has been incorporated. Plans and Specification now identify specific elements that are to be addressed in the plan.

Forest Trails and Landings (Code 655)—The changes made to the document include the addition of an important criterion on the re-use of trails in future management activities “designated skid trails” and additional clarification of environmental mitigation measures.

Heavy Use Area Protection (Code 561)—More detail was added to the purposes; criteria was changed eliminating specific reference to 4000 lb. design load, reference to Design Note 24 made in lieu of the American Association of State Highway and Transportation Officials (AASHTO) publication, reference to appropriate design documents added to concrete section, AASHTO reference added for bituminous concrete paving, alternate design procedure added for bituminous concrete, edited to specifically cover roofs, the American Society of Civil Engineers reference added for design loads for structures; minimum requirements for plan and specification content were added; minimum requirements for operation and maintenance (O&M) plans were added; and references were added.

Herbaceous Wind Barriers (Code 603)—This revision adds considerations for beneficial insects and pollinators, sequestering of carbon, native plant materials, invasive species, and micro-environment for plant growth. Also, this revision moves “food and cover for wildlife” from the “Purpose” section to “Considerations,” adds “tolerance to soil deposition” as a criterion under “Vegetation,” expands “Conditions where Practice Applies” to include lands where forages are grown, removes instruction statements for preparation of State standards, adds requirements in “Plans and Specifications,” and updates barrier criteria to include the most current technology and references.

Integrated Pest Management (Code 595)—The practiced was revised to include specific NRCS Integrated Pest Management (IPM) risk reduction techniques to address identified hazards related to cultural, biological, and chemical pest suppression strategies. A technical note has been developed to support the implementation of the NRCS IPM mitigation techniques. The name of the standard was changed to reflect the IPM approach to reduce the risks/hazards related to pest prevention, avoidance, monitoring, and suppression activities.

Obstruction Removal (Code 500)—The definition was edited to add “works of improvement” and “debris” while “landscape features” were eliminated; the conditions where practice applies added “public safety and infrastructure” and a statement added that “does not apply to aquatic environments.” The criteria was completely re-written to add more detail, safety and environmental concerns added and more detail added for stabilization of the site after removal work; considerations were added related to recycling, dust suppression, erosion and sediment control, working in environmentally sensitive areas, safety and wildlife habitat; minimum requirements for plan and specification content were added; minimum requirements for O&M plans were added; and references were added.

Pumping Plant (Code 533)—The definition was expanded to identify pumping plant components; purposes were expanded to address various resource concerns; new criteria was added for Variable Frequency Drives, Photovoltaic Panels, Windmills, and Hydraulic Rams; additional criteria was provided, corresponding to the newly expanded purposes.

Sediment Basin (Code 350)—The definition changed to better define the type of basin; the purpose changed to reflect the sediment capturing function of the basin; conditions where practice applies changed to define land uses where the practice applies and the physical conditions where the practice is applicable, which are the same as Pond (Code 378); criteria added for location, basin capacity, spillway design, basin shape, embankment and side slopes, vegetation and safety while a drawing was added to better define the storage capacities; considerations were added related to improved functioning of the basin, visual concerns, safety and wildlife habitat; minimum requirements for plan and specification content were added; minimum requirements for O&M plans were added; and references were added.

Spoil Spreading (Code 572)—The criteria was edited and a section specifically for spreading of spoil along channels was added; consideration was added for evaluating channels capacity; minimum requirements for plan and specification content were added; minimum requirements for O&M plans were added; and references were added.

Trail and Walkways (Code 568)—The title changed from Recreation Trails and Walkways; the definition added farm workers, construction/maintenance access and small walk behind equipment; the purpose changed to add agricultural and construction/maintenance purposes; conditions where practice applies changed to cover recreational, agricultural, and non-agricultural; criteria changed to added more detailed requirements for all land uses and information added on accessibility of public access trails; considerations added on maximum grades, drainage issues, parking issues, scenic values, fish and wildlife habitat, water quality, and wind erosion; minimum requirements for plan and specification content were added; minimum requirements for O&M plans added; and references were added.

Vegetative Barrier (Code 601)—The primary revision included the addition to use the Revised Universal Soil Loss Equation, Version 2 (RUSLE2) for the design and spacing of the vegetative barriers. Other revisions included edits to improve clarity.

Prescribed Forestry (Code 409)—Rescission of this practice will be effective October 1, 2009. This practice has been replaced by Forest Management Plan (Code 106).

Signed this 20th day of August 2009, in Washington, DC.
Dave White,
Chief.

[FR Doc. E9-20796 Filed 8-27-09; 8:45 am]

BILLING CODE 3410-16-P